COMMISSION ON CIVIL RIGHTS

Agenda and Notice of Public Meeting of the West Virginia Advisory Committee

AGENCY: Commission on Civil Rights.

ACTION: Announcement of meeting.

SUMMARY: Notice is hereby given, pursuant to the provisions of the rules and regulations of the U.S. Commission on Civil Rights (Commission), and the Federal Advisory Committee Act (FACA), that a public meeting of the West Virginia Advisory Committee to the Commission will convene at 9:00 a.m. (EDT) on Friday, August 14, 2015 in the House Government Organization Committee Room E-215 in Building 1 of the West Virginia State Capitol Complex, located at 1900 Kanawha Blvd., East, Charleston, WV 25305. The purpose of the meeting is to hear from government officials, advocates, and other experts as well as the public on the topic of the treatment by the West Virginia criminal justice system and mental health court of persons with mental health disabilities, including persons who are intellectually and developmentally disabled. In addition, the Committee will discuss the next steps that should be planned for completing the Committee's mental health project.

For persons who plan to attend the meeting and are hearing-impaired or require other accommodations, please contact Evelyn Bohor at ero@usccr.gov at the Eastern Regional Office at least 10 working days before the scheduled meeting date with your request.

Time will be set aside after the experts have completed their presentations so that members of the public may address the Committee. Persons interested in the issue are also invited to submit written comments; the comments must be received in the regional office by Monday, September 14, 2015. Written comments may be mailed to the Eastern Regional Office, U.S. Commission on Civil Rights, 1331 Pennsylvania Avenue, Suite 1150, Washington, DC 20425, faxed to (202) 376-7548, or emailed to Evelyn Bohor at ero@usccr.gov. Persons who desire additional information about the public meeting may contact the Eastern Regional Office by phone at (202) 376-7533 or email to ero@usccr.gov.

Records and documents discussed during the meeting will be available for public viewing as they become available by clicking on the “Meeting Details” and “Documents” links at the following link: https://database.faca.gov/committee/meetings.aspx?cid=281. Records generated from this meeting may also be inspected and reproduced at the Eastern Regional Office, as they become available, both before and after the meeting. Persons interested in the work of this advisory committee are advised to go to the Commission's Web site, www.usccr.gov, or to contact the Eastern Regional Office at the above phone number, email or street address.

Agenda

Welcome and Introductions

Tara Martinez, Chair

Discuss Administrative Matters, Including Next Steps for Completing the Committee's Project

Ivy L Davis, Designated Federal Official (DFO)

Presentations by Government, Advocates and Other Experts

West Virginia State Advisory Committee

Time Set-Aside for Interested in the Audience to Make Statements on the Subject of the Committee's Review

West Virginia State Advisory Committee

Meeting Details

Date: Friday, August 14, 2015 (EDT).

Address: House Government Organization Committee Room E-215 in Building 1 of the West Virginia State Capitol Complex, located at 1900 Kanawha Blvd., East, Charleston, WV 25305.

FOR FURTHER INFORMATION CONTACT: Ivy L. Davis at ero@usccr.gov, or 202-376-7533

Dated: July 23, 2015.
David Mussatt,
Chief, Regional Programs Unit.

[FR Doc. 2015-18435 Filed 7-28-15; 8:45 am]

BILLING CODE 6335-01-P